DEPARTMENT OF TRANSPORTATION

Federal Aviation Administration

14 CFR Part 71

[Docket No. FAA-2021-0169; Airspace Docket No. 21-ASO-3]

RIN 2120-AA66

Proposed Amendment of Class D and Class E Airspace; South Florida

AGENCY: Federal Aviation Administration (FAA), DOT.

ACTION: Notice of proposed rulemaking (NPRM).

SUMMARY: This action proposes to amend Class D and Class E airspace in the south Florida area, by updating the geographic coordinates of the following airports; Fort Lauderdale-Hollywood International Airport, Miami-Opa Locka Executive Airport, (formerly Opa Locka Airport), North Perry Airport, Pompano Beach Airpark, Miami International Airport, Homestead ARB, Boca Raton Airport, Miami Executive Airport (formerly Kendall-Tamiami Executive Airport). This action would also update the geographic coordinates of the Fort Lauderdale Very High Frequency Omnidirectional Range Collocated with Distance Measuring Equipment (VOR/DME), and the QEEZY Locator Outer Marker (LOM). This action would also make an editorial change replacing the term Airport/Facility Directory with the term Chart Supplement in the legal descriptions of associated Class D and E airspace. Controlled airspace is necessary for the safety and management of instrument flight rules (IFR) operations in the area.

DATES: Comments must be received on or before August 9, 2021.

ADDRESSES: Send comments on this proposal to: The U.S. Department of Transportation, Docket Operations, 1200 New Jersey Avenue SE, West Building Ground Floor, Room W12-140, Washington, DC 20590-0001; Telephone: (800) 647-5527, or (202) 366-9826. You must identify the Docket No. FAA-2021-0169; Airspace Docket No. 21-ASO-3, at the beginning of your comments. You may also submit comments through the internet at https://www.regulations.gov.

FAA Order 7400.11E, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11E at NARA, email fedreg.legal@nara.gov or go to https://www.archives.gov/federal-register/cfr/ibr-locations.html.

FOR FURTHER INFORMATION CONTACT: John Fornito, Operations Support Group, Eastern Service Center, Federal Aviation Administration, 1701 Columbia Avenue, College Park, GA 30337; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend Class D and E airspace in the south Florida area.

Comments Invited

Interested persons are invited to comment on this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (Docket No. FAA-2021-0169 and Airspace Docket No. 21-ASO-3) and be submitted in triplicate to DOT Docket Operations (see ADDRESSES section for the address and phone number). You may also submit comments through the internet at https://www.regulations.gov.

Persons wishing the FAA to acknowledge receipt of their comments on this action must submit with those comments a self-addressed stamped postcard on which the following statement is made: “Comments to FAA Docket No. FAA-2020-0169 Airspace Docket No. 21-ASO-3.” The postcard will be date/time stamped and returned to the commenter.

All communications received before the specified closing date for comments will be considered before taking action on the proposed rule. The proposal contained in this document may be changed in light of the comments received. All comments submitted will be available for examination in the public docket both before and after the comment closing date. A report summarizing each substantive public contact with FAA personnel concerned with this rulemaking will be filed in the docket.

Availability of NPRMs

An electronic copy of this document may be downloaded through the internet at http://www.regulations.gov. Recently published rulemaking documents can also be accessed through the FAA's web page at https://www.faa.gov/air_traffic/publications/airspace_amendments/.

You may review the public docket containing the proposal, any comments received and any final disposition in person in the Dockets Office (see the ADDRESSES section for address and phone number) between 9:00 a.m. and 5:00 p.m., Monday through Friday, except federal holidays. An informal docket may also be examined between 8:00 a.m. and 4:30 p.m., Monday through Friday, except federal holidays at the office of the Eastern Service Center, Federal Aviation Administration, Room 350, 1701 Columbia Avenue, College Park, GA 30337.

Availability and Summary of Documents for Incorporation by Reference

This document proposes to amend FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Proposal

The FAA proposes an amendment to 14 CFR part 71 to amend Class D and Class E surface airspace, Class E airspace designated as an extension to a Class C surface area, and Class E airspace extending upward from 700 feet above the surface in the south Florida area, by updating the geographical coordinates of several airports and associated navigation aids. Also, the FAA proposes to update the airport name of Miami Executive Airport (formerly Kendall-Tamiami Executive Airport), and Miami Opa-Locka Executive Airport (formerly Opa Locka Airport), and Homestead ARB (formerly Dade County-Homestead Regional Airport) in the Class D airspace, Class E surface airspace, and Class E airspace extending upward from 700 feet above the surface. Also, the FAA proposes to amend the Miami, Opa Locka Executive Airport, FL Class D header, (formerly Miami, Opa Locka Airport, FL). In addition, the FAA proposes to replace the outdated term Airport/Facility Directory with the term Chart Supplement in the associated Class D and E airspace legal descriptions for these airports. Also, Boca Raton Class E airspace extending upward from 700 feet above the surface would exclude the reference to Pompano Beach Class D airspace, as this is unnecessary verbiage.

Class D and E airspace designations are published in Paragraphs 5000, 6002, 6003 and 6005, respectively, of FAA Order 7400.11E, dated July 21, 2020, and effective September 15, 2020, which is incorporated by reference in 14 CFR 71.1. The Class E airspace designation listed in this document will be published subsequently in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a Regulatory Evaluation as the anticipated impact is minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

Lists of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 5000 Class D Airspace.

* * * * *

ASO FL D Hollywood, FL [Amended]

North Perry Airport, FL

(Lat. 26°00′04″ N, long. 80°14′27″ W)

Miami-Opa Locka Executive Airport

(Lat. 25°54′27″ N, long. 80°16′42″ W)

That airspace extending upward from the surface to and including 2,500 feet MSL within a 4-mile radius of the North Perry Airport; excluding the portion north of the north boundary of the Miami, FL, Class B airspace area and that portion south of a line connecting the 2 points of intersection with a 4.3-mile radius centered on the Miami-Opa Locka Executive Airport. This Class D airspace area is effective during specific dates and times established in advance by a Notice to Airmen. The effective date and time will thereafter be continuously published in the Chart Supplement.

ASO FL D Miami, Opa Locka Executive Airport, FL [Amended]

Miami-Opa Locka Executive Airport, FL

(Lat. 25°54′27″ N, long. 80°16′42″ W)

North Perry Airport

(Lat. 26°00′05″ N, long. 80°14′26″ W)

That airspace extending upward from the surface to and including 2,500 feet MSL within a 4.3-mile radius of Miami-Opa Locka Executive Airport excluding that airspace south of 25°52′09″ N, and that portion north of a line connecting the 2 points of intersection with a 4-mile radius centered on the North Perry Airport. This Class D airspace area is effective during specific dates and times established in advance by a Notice to Airmen. The effective date and time will thereafter be continuously published in the Chart Supplement.

ASO FL D Fort Lauderdale Executive Airport, FL [Amended]

Fort Lauderdale Executive Airport, FL

(Lat. 26°11′50″ N, long. 80°10′15″ W)

Fort Lauderdale-Hollywood International Airport, FL

(Lat. 26°04′18″ N, long. 80°08′59″ W)

That airspace extending upward from the surface to and including 2,500 feet MSL within a 4-mile radius of Fort Lauderdale Executive Airport; excluding that portion within the Fort Lauderdale-Hollywood International Airport, FL, Class C airspace area and that portion northeast of a line between lat. 26°15′49″ N; long. 80°11′00″ W; and lat. 26°12′59″ N; long. 80°09′14″ W and that portion north of a line 1 mile north of and parallel to the extended runway centerline of Runway 8/26 at Fort Lauderdale Executive Airport. This Class D airspace area is effective during the specific days and times established in advance by a Notice to Airmen. The effective days and times will thereafter be continuously published in the Chart Supplement.

ASO FL D Pompano Beach, FL [Amended]

Pompano Beach, Airpark, FL

(Lat. 26°14′51″ N, long. 80°06′40″ W)

Fort Lauderdale Executive Airport, FL

(Lat. 26°11′50″ N, long. 80°10′15″ W)

That airspace extending upward from the surface to and including 2,500 feet MSL within a 4-mile radius of Pompano Beach Airpark; excluding that portion southwest of a line between lat. 26°15′49″ N; long. 80°11′00″ W; and lat. 26°12′59″ N; long. 80°09′14″ W and that portion south of a line 1 mile north of and parallel to the extended runway centerline of Runway 8/26 at Fort Lauderdale Executive Airport. This Class D airspace area is effective during the specific days and times established in advance by a Notice to Airmen. The effective days and times will thereafter be continuously published in the Chart Supplement.

ASO FL D Miami Executive Airport, FL [Amended]

Miami Executive Airport, FL

(Lat. 25°38′51″ N, long. 80°26′00″ W)

That airspace extending upward from the surface to and including 2,500 feet MSL within a 3.5-mile radius of the Miami Executive Airport, FL; excluding that airspace within the Miami, FL, Class B airspace area. This Class D airspace area is effective during the specific dates and times established in advance by a Notice to Airmen. The effective date and time will thereafter be continuously published in the Chart Supplement.

Paragraph 6003 Class E Airspace Designated as an Extension to Class C.

* * * * *

ASO FL E3 Fort Lauderdale, FL [Amended]

Fort Lauderdale-Hollywood International Airport, FL

(Lat. 26°04′18″ N, long. 80°08′59″ W)

Fort Lauderdale VOR/DME

(Lat. 26°04′26″ N, long. 80°09′59″ W)

That airspace extending upward from the surface within 3.5 miles each side of the Fort Lauderdale VOR/DME 083° radial extending from a 5-mile radius of Fort Lauderdale-Hollywood International Airport to 7 miles east of the VOR/DME; excluding that portion south of the north boundary of the Miami, FL, Class B airspace area.

Paragraph 6005 Class E Airspace Areas Extending Upward From 700 Feet or More Above the Surface of the Earth.

* * * * *

ASO FL E5 Miami, FL [Amended]

Miami International Airport, FL

(Lat. 25°47′43″ N, long. 80°17′24″ W)

Homestead ARB

(Lat. 25°29′19″ N, long. 80°23′01″ W)

Miami Opa-Locka Executive Airport

(Lat. 25°54′27″ N, long. 80°16′42″ W)

Fort Lauderdale-Hollywood International Airport

(Lat. 26°04′18″ N, long. 80°08′59″ W)

Miami Executive Airport

(Lat. 25°38′51″ N, long. 80°26′00″ W)

QEEZY LOM

(Lat. 25°38′29″ N, long. 80°30′17″ W)

Fort Lauderdale Executive Airport

(Lat. 26°11′50″ N, long. 80°10′14″ W)

Pompano Beach Airpark

(Lat. 26°14′51″ N, long. 80°06′40″ W)

North Perry Airport

(Lat. 26°00′04″ N, long. 80°14′27″ W)

That airspace extending upward from 700 feet above the surface within a 7-mile radius of Miami International Airport, Homestead ARB, Miami Opa-Locka Executive Airport, Fort Lauderdale-Hollywood International Airport, and Miami Executive Airport, and within 2.4 miles each side of the 267° bearing from the QEEZY LOM extending from the 7-mile radius to 7 miles west of the LOM, and within a 6.5-mile radius of Fort Lauderdale Executive Airport, Pompano Beach Airpark and North Perry Airport.

ASO FL E5 Boca Raton, FL [Amended]

Boca Raton Airport, FL

(Lat. 26°22′43″ N, long. 80°06′26″ W)

That airspace extending upward from 700 feet above the surface within a 6.5-mile radius of Boca Raton Airport.

Issued in College Park, Georgia, on June 17, 2021.
Andreese C. Davis,
Manager, Airspace & Procedures Team South, Eastern Service Center, Air Traffic Organization.

[FR Doc. 2021-13274 Filed 6-24-21; 8:45 am]

BILLING CODE 4910-13-P